ENVIRONMENTAL PROTECTION AGENCY

[MI81-01-7290; FRL-7488-2]

Notice of a Final Determination for the Hillman Power Company, Hillman, MI

AGENCY: Environmental Protection Agency (EPA).

ACTION: Notice of final action.

SUMMARY: This notice announces that, on July 31, 2002, the Environmental Appeals Board (EAB) of the United States Environmental Protection Agency dismissed petitions for review of a Prevention of Significant Deterioration (PSD) permit issued under the Clean Air Act to Hillman Power Company, Hillman, Montmorency County, Michigan. The Michigan Department of Environmental Quality (MDEQ) issued the PSD permit.

DATES: The effective date for the decision is July 31, 2002. Judicial review of this permit decision, to the extent it is available pursuant to section 307(b)(1) of the Clean Air Act, may be sought by filing a petition for review in the United States Court of Appeals for the Sixth Circuit within 60 days of today's date.

ADDRESSES: Documents relevant to the above action are available for public inspection during normal business hours at the following address: Environmental Protection Agency, Region 5, 77 West Jackson Boulevard (AR-18J), Chicago, Illinois 60604. To arrange inspection of these documents, call Laura L. David at (312) 886-0661.

FOR FURTHER INFORMATION CONTACT: Laura L. David, Environmental Protection Agency, Region 5, 77 W. Jackson Boulevard (AR-18J), Chicago, Illinois 60604. The EAB decision is available at: http://www.epa.gov/eab/disk11/hillman.pdf.

SUPPLEMENTARY INFORMATION: Hillman Power owns and operates a tire-derived fuel (TDF) and wood-fired boiler that produces steam for generating electricity which is sold on the electrical grid system. The existing power plant is located in the City of Hillman, Montmorency County, Michigan. The boiler is capable of burning fuels at a rated capacity of 300 million BTU per hour heat input. The net capacity of the power plant is approximately 18 megawatts. The plant was allowed to use wood and up to 3,149 pounds per hour TDF (approximately 6% of total fuel) as fuel.

MDEQ received the permit application from Hillman Power on September 27, 2001, seeking an increase in the use of TDF to be fired as a supplementary fuel for up to 5,000 pounds per hour (approximately 9% of total fuel). The application was subject to federal Prevention of the Significant Deterioration (PSD) review for sulfur dioxide (SO2). In addition to the permit requirements (which include using the Best Available Control Technology (BACT)), the company agreed to make environmentally beneficial physical changes to its facility, including installation of a new stack, new air heater tube banks, and a new voltage regulator and excitation system. A spare transformer for the electrostatic precipitator used to control particulate matter (PM) emissions is available on-site, if any replacement is needed. Also, significant improvements to operational procedures and work practices related to boiler cleaning and start-up/shutdown conditions have been implemented to reduce emissions.

Pursuant to a delegation agreement between EPA and MDEQ, MDEQ is authorized to make PSD permitting decisions for new and modified stationary sources of air pollution in the State of Michigan. On March 13, 2002, the MDEQ issued Permit No. 687-86G to Hillman Power Company. Because MDEQ acts as EPA's delegatee under the PSD program, MDEQ's permits are considered EPA-issued permits, and appeals of MDEQ's PSD permit decisions are reviewed by the EAB pursuant to 40 CFR 124.19.

On April 16, 2002, the Michigan Environmental Council (MEC), Dr. Richard N. Olree, Jr., and Ms. Donna Baranyai filed petitions with the EAB for review of Hillman Power Company's modified PSD permit. The stated grounds for appeal were: failure to quantify the dioxin emissions; failure to determine whether dioxin would be adequately controlled; inappropriate BACT analysis; failure to address heavy metal fallout data; unjustifiable percentage of increased sulfur dioxide emissions as compared to tons of TDF burned; failure to consider data indicating the presence of heavy metals in fly ash in a local elementary school's air filters and playground soils; and failure to consider the facility's possible failure to comply with a permit provision prohibiting emissions causing a public nuisance.

The EAB found that the petitioners made no showing of clear error, the existence of an important policy matter or an abuse of discretion warranting review and denied review.

Dated: April 3, 2003.
Bharat Mathur,
Acting Regional Administrator, Region 5.

[FR Doc. 03-10272 Filed 4-24-03; 8:45 am]

BILLING CODE 6560-50-P